DEPARTMENT OF TRANSPORTATION

Federal Aviation Administration

[Policy Statement No. ANE-2001-35.1-R0]

Notice of Policy for Parts Manufacturer Approval (PMA) for Critical Propeller Parts

AGENCY: Federal Aviation Administration, DOT.

ACTION: Notice of issuance; policy statement.

SUMMARY: The Federal Aviation Administration (FAA) announces the availability of policy for a uniform approach for Aircraft Certification Offices (ACOs) to evaluate PMA applications for both critical and life-limited propeller parts.

DATES: The FAA issued policy statement number ANE-2001-35.1-R0 on December 17, 2001.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199. The policy statement is available on the Internet at the following address: http://www.faa.gov/certification/aircraft/enginepolicyby.htm. If you do not have access to the Internet, you may request a copy of the policy by contacting the individual listed in this section.

SUPPLEMENTARY INFORMATION: The FAA published a notice in the Federal Register on August 23, 2001 (66 FR 44431) that announced the availability of the proposed policy and invited interested parties to comment.

Background

This policy establishes a uniform approach for Aircraft Certification Offices (ACOs) to evaluate PMA applications for both critical and life-limited propeller parts. This policy does not establish new requirements.

(Authority: 49 U.S.C. 106(g), 40113, 44701-44702, 44704.)

Issued in Burlington, Massachusetts, on December 17, 2001.
Jay J. Pardee,
Manager, Engine and Propeller Directorate, Aircraft Certification Service.

[FR Doc. 02-6127 Filed 3-18-02; 8:45 am]

BILLING CODE 4910-13-M